INTERNATIONAL TRADE COMMISSION

[Investigation Nos. 731-TA-1632, 1634, 1635, and 1639 (Final)]

Mattresses From India, Kosovo, Mexico, and Spain; Determinations

On the basis of the record ¹ developed in the subject investigations, the United States International Trade Commission (“Commission”) determines, pursuant to the Tariff Act of 1930 (“the Act”), that an industry in the United States is materially injured by reason of imports of mattresses from India, Kosovo, Mexico, and Spain, provided for in subheadings 9404.21.00, 9404.29.10, and 9404.29.90 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 89 FR 59047 (India), 89 FR 59043 (Kosovo), 89 FR 59062 (Mexico), and 89 FR 59059 (Spain), July 22, 2024.

Background

The Commission instituted these investigations effective July 28, 2023, following receipt of petitions filed with the Commission and Commerce by Brooklyn Bedding LLC, Phoenix, Arizona; Carpenter Company, Richmond, Virginia; Corsicana Mattress Company, Dallas, Texas; Future Foam, Inc., Council Bluffs, Iowa; FXI, Inc., Radnor, Pennsylvania; Kolcraft Enterprises, Inc., Chicago, Illinois; Leggett & Platt, Incorporated, Carthage, Missouri; Serta Simmons Bedding, Inc., Doraville, Georgia; Southerland Inc., Antioch, Tennessee; Tempur Sealy International, Inc., Lexington, Kentucky; the International Brotherhood of Teamsters, Washington, DC; and the United Steel, Paper and Forestry, Rubber, Manufacturing, Energy, Allied Industrial and Service Workers International Union, AFL-CIO, Washington, DC. The Commission scheduled the final phase of the investigations following notification of preliminary determinations by Commerce that imports of mattresses from Bosnia and Herzegovina, Bulgaria, Burma, India, Italy, Kosovo, Mexico, Philippines, Poland, Slovenia, Spain, and Taiwan were being sold at LTFV within the meaning of § 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 6, 2024 (89 FR 16026). The Commission conducted its hearing on May 9, 2024. All persons who requested the opportunity were permitted to participate.

Although the antidumping duty petitions for mattresses from Bosnia and Herzegovina, Bulgaria, Burma, India, Italy, Kosovo, Mexico, Philippines, Poland, Slovenia, Spain, and Taiwan were filed on the same day, July 28, 2023, the investigation schedules became staggered when Commerce did not align its investigations concerning Bosnia and Herzegovina, Bulgaria, Burma, Italy, Philippines, Poland, Slovenia, and Taiwan with its investigations concerning India, Kosovo, Mexico, and Spain. On June 28, 2024, the Commission issued final affirmative determinations in its antidumping duty investigations of mattresses from Bosnia and Herzegovina, Bulgaria, Burma, Italy, Philippines, Poland, Slovenia, and Taiwan (89 FR 55657, July 5, 2024). Following notification of final determinations by Commerce that imports of mattresses from India, Kosovo, Mexico, and Spain were being sold at LTFV within the meaning of section 735(a) of the Act (19 U.S.C. 1673d(a)), notice of the supplemental scheduling of the final phase of the Commission's antidumping duty investigations concerning India, Kosovo, Mexico, and Spain was given by posting copies of the notice in the Office of the Secretary, U.S. International Trade Commission, Washington, DC, and by publishing the notice in the Federal Register (89 FR 60658, July 26, 2024).³

³ A countervailing duty petition on mattresses from Indonesia was also filed on the same day as the antidumping duty petitions concerning mattresses from Bosnia and Herzegovina, Bulgaria, Burma, India, Italy, Kosovo, Mexico, Philippines, Poland, Slovenia, Spain, and Taiwan. However, Commerce published a final negative countervailing duty determination with respect to mattresses from Indonesia on July 22, 2024 (89 FR 59050). The Commission therefore terminated its countervailing duty investigation on mattresses from Indonesia (89 FR 60661, July 26, 2024).

The Commission made these determinations pursuant to § 735(b) of the Act (19 U.S.C. 1673d(b)). It completed and filed its determinations in these investigations on August 28, 2024. The views of the Commission are contained in USITC Publication 5539 (August 2024), entitled Mattresses from India, Kosovo, Mexico, and Spain: Investigation Nos. 731-TA-1632, 1634, 1635, and 1639 (Final).

By order of the Commission.
Issued: August 28, 2024.
Sharon Bellamy,
Supervisory Hearings and Information Officer.

[FR Doc. 2024-19781 Filed 9-3-24; 8:45 am]

BILLING CODE 7020-02-P